ENVIRONMENTAL PROTECTION AGENCY

[EPA-HQ-OW-2004-0015; FRL 9949-48-OEI]

Information Collection Request Submitted to OMB for Review and Approval; Comment Request; Clean Water State Revolving Fund Program

AGENCY: Environmental Protection Agency (EPA).

ACTION: Notice.

SUMMARY: The U.S. Environmental Protection Agency (EPA) has submitted an information collection request (ICR), “Clean Water State Revolving Fund Program” (EPA ICR No. 1391.11, OMB Control No. 2040-0118) to the Office of Management and Budget (OMB) for review and approval in accordance with the Paperwork Reduction Act (PRA) (44 U.S.C. 3501 et seq.). This is a proposed extension of the ICR, which is currently approved through July 31, 2016. Public comments were previously requested via the Federal Register (81 FR 19173) on April 4, 2016, during a 60-day comment period. This notice allows for an additional 30 days for public comments. A fuller description of the ICR is given in this renewal notice, including its estimated burden and cost to the public. An Agency may not conduct or sponsor and a person is not required to respond to a collection of information unless it displays a currently valid OMB control number.

DATES: Comments must be submitted on or before August 25, 2016.

ADDRESSES: Submit your comments, referencing Docket ID Number EPA-HQ-OW-2002-0059, to (1) EPA online using http://www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Mark Mylin, Municipal Support Division, Office of Wastewater Management, 4204M, Environmental Protection Agency, 1200 Pennsylvania Ave. NW., Washington, DC 20460; telephone number: 202-564-0607; email address: mylin.mark@epa.gov.

SUPPLEMENTARY INFORMATION: Supporting documents which explain in detail the information that the EPA will be collecting are available in the public docket for this ICR, docket number EPA-HQ-OW-2004-0015. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Clean Water State Revolving Funds (CWSRF) were established by the 1987 amendments to the Clean Water Act (CWA) as a financial assistance program for a wide range of wastewater infrastructure and other water quality projects. The 1987 amendments added Title VI to the CWA, enabling EPA to provide grants to all 50 states and Puerto Rico to capitalize CWSRFs. The CWSRFs can provide loans and other forms of assistance for a wide array of projects, including construction of wastewater treatments facilities, green infrastructure projects, agricultural best management practices, and water and energy efficiency improvements. Eligible borrowers of CWSRF funding range from municipalities to nonprofit organizations and other private entities. Recently, Title VI of the CWA was amended in 2014 by the Water Resources Reform and Development Act (WRRDA). Additional information about the CWSRFs is available at http://www.epa.gov/cwsrf/learn-about-clean-water-state-revolving-fund-cwsrf.

Form Numbers: None.

Respondents/affected entities: Entities affected by this action are state environmental departments, and/or finance agencies responsible for operating the CWSRFs and eligible CWSRF borrowers.

Respondent's obligation to respond: Required to obtain or retain a benefit per Title VI of CWA as amended by WRRDA.

Estimated number of respondents: 51 state environmental departments and/or finance agencies (per year); 393 eligible CWSRF borrowers (per year)

Frequency of response: Varies by requirement (i.e., quarterly, semi-annually and annually)

Total estimated burden: 57,376 hours (per year). Burden is defined at 5 CFR 1320.03(b)

Total estimated cost: $6,074,741 (per year), including $2,928,100 in non-labor costs.

Changes in Estimates: This renewal adds two information collections activities not included in the previous version of the ICR. Specifically, the renewal includes the additional burden associated with the EPA requirement that the CWSRFs submit data into the CWNIMS and CBR databases on a recurring basis. The renewal also reflects the additional burden related to the recently released public awareness policy, directing CWSRF borrowers that receive federal funds to publicize EPA's role in funding the projects.

Though these information collection activities add additional burden, the total estimated reporting burden under this renewal is significantly lower compared to the previously approved ICR. The estimate of the annual burden has been decreased by 748,471 hours while the total annual cost burden has been decreased by $17,744,006. This significant revision is due to the removal of the burden associated with CWSRF applications and ongoing ARRA reporting.

Courtney Kerwin,
Acting Director, Collection Strategies Division.

[FR Doc. 2016-17513 Filed 7-25-16; 8:45 am]

BILLING CODE 6560-50-P